Title 3—

The President

Proclamation 10775 of June 7, 2024

Flag Day and National Flag Week, 2024

By the President of the United States of America

A Proclamation

For people across America, our flag is a reminder of our Nation's founding principle. It stands for the sacred idea that we are all created equal and deserve to be treated equally throughout our lives. Our flag is also a reminder of our shared calling: to stand for the ideals our country was founded on—democracy, freedom, and justice for all. On Flag Day and during National Flag Week, we take pride in the promise and purpose represented by our Nation's flag.

Our country's flag was created in 1777, when America was still a new idea. Americans flew it at their homes during the Revolutionary War as brave troops fought for our country's independence from British rule—representing the resolve and resilience of our Nation's 13 colonies with 13 stripes and stars. As our Nation evolved, so too did our flag—with every new star added to Old Glory, we were reminded that the work of forging a more perfect Union never ends.

Ever since, our flag has served as a source of pride and inspiration. It has flown high on many battlefields, acting as a beacon of light and purpose at home and around the globe. It flies over military cemeteries where our country's service members have been laid to rest, reminding us of the unmoving faith they had in our Nation and the ultimate sacrifice they made. It flies over buildings, classrooms, and courthouses—across small towns, in big cities, and around the world—a constant reminder that democracy begins and will be preserved in the habits and the hearts of ordinary people and that we all share a responsibility to stand up for it each and every day.

Across the country, Americans are writing the greatest comeback story our Nation has ever known. They are finding new ways to lead America into a future of possibilities, helping build a democracy with dignity—one worthy of our dreams. On Flag Day and during National Flag Week, we honor all that the flag means to the American people and continue working to ensure that America is a land of possibilities for all. No matter how dark the night, Americans will always pursue our Nation's North Star—our flag will always be there.

To commemorate the adoption of our flag in 1777, the Congress, by joint resolution approved on August 3, 1949, as amended (63 Stat. 492), designated June 14 of each year as “Flag Day” and requested the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, JOSEPH R. BIDEN JR., President of the United States of America, do hereby proclaim June 14, 2024, as Flag Day and the week starting June 9, 2024, as National Flag Week. I direct the appropriate officials to display the flag on all Federal Government buildings during this week, and I urge all Americans to observe Flag Day and National Flag Week by displaying the flag and honoring all of our brave service members and revering those who gave their last full measure of devotion defending our freedoms. I encourage the people of the United States to observe with pride and all due ceremony those days from Flag Day through Independence Day, set aside by the Congress (89 Stat. 211), as a time to honor the American spirit, to celebrate our history and the foundational values we strive to uphold, and to publicly recite the Pledge of Allegiance to the Flag of the United States of America.

IN WITNESS WHEREOF, I have hereunto set my hand this seventh day of June, in the year of our Lord two thousand twenty-four, and of the Independence of the United States of America the two hundred and forty-eighth.

[FR Doc. 2024-13122

Filed 6-11-24; 11:15 am]

Billing code 3395-F4-P